DEPARTMENT OF ENERGY

Federal Energy Regulatory Commission

[Project No. 13571-000]

Goshen Powerhouse, LLC: Notice of Preliminary Permit Application Accepted for Filing and Soliciting Comments, Motions To Intervene, and Competing Applications

November 10, 2009.

On August 24, 2009, Goshen Powerhouse, LLC filed an application for a preliminary permit, pursuant to section 4(f) of the Federal Power Act, proposing to study the feasibility of the Goshen Dam Hydroelectric Project No. 13571, to be located at the existing Goshen Dam, on the Elkhart River, in Elkhart County, Indiana. The sole purpose of a preliminary permit, if issued, is to grant the permit holder priority to file a license application during the permit term. A preliminary permit does not authorize the permit holder to perform any land disturbing activities or otherwise enter upon lands or waters owned by others without the owners' express permission.

The existing dam is owned and operated by Elkhart County, Indiana and the existing powerhouse and headrace canal is owned and operated by the City of Goshen, Indiana. The proposed project would consist of: (1) The existing 12.5-foot-high concrete dam equipped with a 200-foot-long ogee spillway; (2) an existing 765-acre impoundment with a normal water surface elevation of 790.9 feet mean sea level; (3) an existing 25-foot-long by 49-foot-wide powerhouse to contain two new hydrokinetic turbine-generator systems for a total installed capacity of 80 kilowatts; (4) a new 60-foot-long, 12.5-kilovolt transmission line; and (5) appurtenant facilities. The proposed project would operate in a run-of-river mode and generate an estimated average annual generation of 578,160 kilowatt-hours.

Applicant Contact: Edward L. Kurth, Goshen Powerhouse, LLC, San Antonio Zanesville, Texas 78216, (210) 496-5902.

FERC Contact: Michael Watts, (202) 502-6123.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13571) in the docket number field to access the document. For assistance, call toll-free 1-866-208-3372.

Nathaniel J. Davis, Sr.,
Deputy Secretary.

[FR Doc. E9-27921 Filed 11-19-09; 8:45 am]

BILLING CODE 6717-01-P